DEPARTMENT OF EDUCATION

[Docket No. ED-2014-ICCD-0083]

Agency Information Collection Activities; Submission to the Office of Management and Budget for Review and Approval; Comment Request; Implementation Study of the Ramp Up to Readiness Program

AGENCY: Institute of Education Sciences/National Center for Education Statistics (IES), Department of Education (ED).

ACTION: Notice.

SUMMARY: In accordance with the Paperwork Reduction Act of 1995 (44 U.S.C. chapter 3501 et seq.), ED is proposing a revision of an existing information collection.

DATES: Interested persons are invited to submit comments on or before September 29, 2014.

ADDRESSES: Comments submitted in response to this notice should be submitted electronically through the Federal eRulemaking Portal at http://www.regulations.gov by selecting Docket ID number ED-2014-ICCD-0083 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Chris Boccanfuso, 202-219-1674.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Implementation Study of the Ramp Up to Readiness Program.

OMB Control Number: 1850-0907.

Type of Review: A revision of an existing information collection.

Respondents/Affected Public: Individuals or households.

Total Estimated Number of Annual Responses: 21,573.

Total Estimated Number of Annual Burden Hours: 6,059.

Abstract: This study will examine the implementation of Ramp-Up to Readiness, a schoolwide guidance intervention aimed at increasing the college readiness of students. This intervention (called Phase one) is at present being implemented in 34 high schools in Minnesota, and the developers intend to make the intervention available to a much larger set of Minnesota schools. No independently gathered high-quality evidence exists, however, on whether schools are able to implement this comprehensive intervention as intended or how its core components compare to the college-readiness supports in other high schools. The project for which OMB clearance is requested will attempt to gather such evidence from 22 public Minnesota high schools through the least burdensome means. The school-level implementation study will focus on assessing whether Ramp-Up school staff implement the program as intended, on identifying the extent to which the Ramp-Up program differs from the college-readiness supports offered in schools without Ramp-Up, and on the validity of a measure of personal college readiness, which the developers hypothesize is a key mechanism through which the program impacts later outcomes. The study will collect data from school staff in the following activities: Administrative data collection, focus groups in January and June, extant document collection, instructional logs, student and staff surveys, and student personal readiness assessment. The findings produced through analysis of these data will help (1) state education agencies seeking strategies and programs to endorse as a potential means of improving students college readiness and college enrollment, (2) local education agencies that are considering the challenges of implementing Ramp-Up, (3) the developer of this intervention (the College Readiness Consortium at the University of Minnesota) and developers of other college readiness interventions who continually seek to improve their programs by using information from studies like this, and (4) a group of education stakeholders in the Midwest interested in considering whether to conduct a study of the impacts of the Ramp-Up intervention on student outcomes. The revision to the collection being requested is to add a phase two to the evaluation. For this second phase, the impact of the program is being examined in addition to the implementation of the program. Data will be collected from an additional 54 schools for this second phase of the evaluation.

Dated: August 22, 2014.
Stephanie Valentine,
Acting Director, Information Collection Clearance Division, Privacy, Information and Records Management Services, Office of Management.

[FR Doc. 2014-20406 Filed 8-27-14; 8:45 am]

BILLING CODE 4000-01-P